DEPARTMENT OF ENERGY

Federal Energy Regulatory Commission

Combined Notice of Filings

Take notice that the Commission has received the following Natural Gas Pipeline Rate and Refund Report filings:

Docket Numbers: RP11-2067-000.

Applicants: Northern Natural Gas Company.

Description: Northern Natural Gas Company submits tariff filing per 154.204: 20110401 Section 58 Other Provisions to be effective 6/1/2011.

Filed Date: 04/29/2011.

Accession Number: 20110429-5161.

Comment Date: 5 p.m. Eastern Time on Wednesday, May 11, 2011.

Docket Numbers: RP11-2068-000.

Applicants: Panhandle Eastern Pipe Line Company, LP.

Description: Panhandle Eastern Pipe Line Company, LP submits tariff filing per 154.204: Update Tariff Maps to be effective 6/1/2011.

Filed Date: 04/29/2011.

Accession Number: 20110429-5183.

Comment Date: 5 p.m. Eastern Time on Wednesday, May 11, 2011.

Docket Numbers: RP11-2069-000.

Applicants: Trunkline Gas Company, LLC.

Description: Trunkline Gas Company, LLC submits tariff filing per 154.204: Update Maps 4-29-11 to be effective 6/1/2011.

Filed Date: 04/29/2011.

Accession Number: 20110429-5208.

Comment Date: 5 p.m. Eastern Time on Wednesday, May 11, 2011.

Docket Numbers: RP11-2070-000.

Applicants: Trunkline Gas Company, LLC.

Description: Trunkline Gas Company, LLC submits tariff filing per 154.204: Negotiated Rates Filing—8 to be effective 5/1/2011.

Filed Date: 04/29/2011.

Accession Number: 20110429-5215.

Comment Date: 5 p.m. Eastern Time on Wednesday, May 11, 2011.

Docket Numbers: RP11-2071-000.

Applicants: Florida Gas Transmission Company, LLC.

Description: Florida Gas Transmission Company, LLC submits tariff filing per 154.204: Update Map 4-29-11 to be effective 6/1/2011.

Filed Date: 04/29/2011.

Accession Number: 20110429-5221.

Comment Date: 5 p.m. Eastern Time on Wednesday, May 11, 2011.

Docket Numbers: RP11-2072-000.

Applicants: Elba Express Company, L.L.C.

Description: Elba Express Company, L.L.C. submits tariff filing per 154.403(d)(2): Fuel Tracker Filing to be effective 6/1/2011.

Filed Date: 04/29/2011.

Accession Number: 20110429-5225.

Comment Date: 5 p.m. Eastern Time on Wednesday, May 11, 2011.

Docket Numbers: RP11-2073-000.

Applicants: CenterPoint Energy—Mississippi River Transmission, LLC.

Description: CenterPoint Energy—Mississippi River Transmission, LLC submits tariff filing per 154.204: Negotiated Rates Filing 5/1/2011 for CES#3641 & LER#3621 to be effective 5/1/2011.

Filed Date: 04/29/2011.

Accession Number: 20110429-5302.

Comment Date: 5 p.m. Eastern Time on Wednesday, May 11, 2011.

Docket Numbers: RP11-2074-000.

Applicants: Transcontinental Gas Pipe Line Company, LLC.

Description: Transcontinental Gas Pipe Line Company, LLC submits tariff filing per 154.403: Maiden Delivery Lateral Surcharge Update Filing to be effective 6/1/2011.

Filed Date: 04/29/2011.

Accession Number: 20110429-5337.

Comment Date: 5 p.m. Eastern Time on Wednesday, May 11, 2011.

Docket Numbers: RP11-2074-000.

Applicants: Transcontinental Gas Pipe Line Company, LLC.

Description: Transcontinental Gas Pipe Line Company, LLC submits tariff filing per: Maiden Lateral Surcharge Update Supplemental Filing to be effective N/A under RP11-2074 Filing Type: 620.

Filed Date: 04/29/2011.

Accession Number: 20110429-5536.

Comment Date: 5 p.m. Eastern Time on Wednesday, May 11, 2011.

Docket Numbers: RP11-2075-000.

Applicants: OkTex Pipeline Company, L.L.C.

Description: OkTex Pipeline Company, L.L.C. submits tariff filing per 154.204: Housekeeping (1st Quarter 2011) to be effective 6/1/2011 under RP11-2075 Filing Type: 570.

Filed Date: 04/29/2011.

Accession Number: 20110429-5351.

Comment Date: 5 p.m. Eastern Time on Wednesday, May 11, 2011.

Docket Numbers: RP11-2076-000.

Applicants: Carolina Gas Transmission Corporation.

Description: Petition for Approval of Stipulation and Agreement of Carolina Gas Transmission Corporation under RP11-2076.

Filed Date: 04/29/2011.

Accession Number: 20110429-5401.

Comment Date: 5 p.m. Eastern Time on Wednesday, May 11, 2011.

Docket Numbers: RP11-2077-000.

Applicants: Wyoming Interstate Company, L.L.C.

Description: Wyoming Interstate Company, L.L.C. submits tariff filing per 154.403(d)(2): Quarterly Fuel and L&U Filing to be effective 6/1/2011.

Filed Date: 04/29/2011.

Accession Number: 20110429-5409.

Comment Date: 5 p.m. Eastern Time on Wednesday, May 11, 2011.

Docket Numbers: RP11-2078-000.

Applicants: Gulfstream Natural Gas System, L.L.C.

Description: Gulfstream Natural Gas System, L.L.C. submits tariff filing per 154.403(d)(2): 2011 Gulfstream TUP/SBA Filing to be effective 6/1/2011.

Filed Date: 04/29/2011.

Accession Number: 20110429-5421.

Comment Date: 5 p.m. Eastern Time on Wednesday, May 11, 2011.

Docket Numbers: RP11-2079-000.

Applicants: Southern Natural Gas Company.

Description: Southern Natural Gas Company submits tariff filing per 154.204: Map Update to be effective 6/1/2011 under RP11-2079 Filing Type: 570.

Filed Date: 04/29/2011.

Accession Number: 20110429-5427.

Comment Date: 5 p.m. Eastern Time on Wednesday, May 11, 2011.

Docket Numbers: RP11-2080-000.

Applicants: Southeast Supply Header, LLC.

Description: Southeast Supply Header, LLC submits tariff filing per 154.403(d)(2): 2011 SESH TUP/SBA Filing to be effective 6/1/2011 under RP11-2080 Filing Type: 650.

Filed Date: 04/29/2011.

Accession Number: 20110429-5435.

Comment Date: 5 p.m. Eastern Time on Wednesday, May 11, 2011.

Docket Numbers: RP11-2081-000.

Applicants: ANR Pipeline Company.

Description: ANR Pipeline Company submits tariff filing per 154.203: Operational Purchases and Sales Report 2010 to be effective N/A under RP11-2081 Filing Type: 580.

Filed Date: 04/29/2011.

Accession Number: 20110429-5455.

Comment Date: 5 p.m. Eastern Time on Wednesday, May 11, 2011.

Docket Numbers: RP11-2082-000.

Applicants: Texas Eastern Transmission, LP.

Description: Texas Eastern Transmission, LP submits tariff filing per 154.204: Duke Energy Vermillion to be effective 5/1/2011 under RP11-2082 Filing Type: 570.

Filed Date: 04/29/2011.

Accession Number: 20110429-5466.

Comment Date: 5 p.m. Eastern Time on Wednesday, May 11, 2011.

Docket Numbers: RP11-2083-000.

Applicants: El Paso Natural Gas Company.

Description: El Paso Natural Gas Company submits tariff filing per 154.204: TGS and UNS Agreement Update to be effective 6/1/2011 under RP11-2083 Filing Type: 570.

Filed Date: 04/29/2011.

Accession Number: 20110429-5476.

Comment Date: 5 p.m. Eastern Time on Wednesday, May 11, 2011.

Docket Numbers: RP11-2084-000.

Applicants: Hardy Storage Company, LLC.

Description: Hardy Storage Company, LLC submits tariff filing per 154.204: RAM 2011 Periodic to be effective 6/1/2011 under RP11-2084 Filing Type: 570.

Filed Date: 04/29/2011.

Accession Number: 20110429-5539.

Comment Date: 5 p.m. Eastern Time on Wednesday, May 11, 2011.

Docket Numbers: RP11-2085-000.

Applicants: Cheyenne Plains Gas Pipeline Company, L.L.C.

Description: Cheyenne Plains Gas Pipeline Company, L.L.C. submits tariff filing per 154.403(d)(2): Annual Fuel and L&U Filing to be effective 6/1/2011.

Filed Date: 04/29/2011.

Accession Number: 20110429-5544.

Comment Date: 5 p.m. Eastern Time on Wednesday, May 11, 2011.

Docket Numbers: RP11-2086-000.

Applicants: CenterPoint Energy Gas Transmission Company, LLC.

Description: CenterPoint Energy Gas Transmission Company, LLC submits tariff filing per 154.204: CEGT LLC—Negotiated Rate—May 2011 to be effective 5/1/2011.

Filed Date: 04/29/2011.

Accession Number: 20110429-5547.

Comment Date: 5 p.m. Eastern Time on Wednesday, May 11, 2011.

Docket Numbers: RP11-2087-000.

Applicants: Gulf Crossing Pipeline Company LLC.

Description: Gulf Crossing Pipeline Company LLC submits tariff filing per 154.204: BP Energy 37-4 Amendment to Negotiated Rate Agreement Filing to be effective 5/1/2011.

Filed Date: 05/02/2011.

Accession Number: 20110502-5163.

Comment Date: 5 p.m. Eastern Time on Monday, May 16, 2011.

Docket Numbers: RP11-2088-000.

Applicants: ANR Pipeline Company.

Description: ANR Pipeline Company submits tariff filing per 154.601: ITS Negotiated Rate Agreements to be effective 5/1/2011.

Filed Date: 05/02/2011.

Accession Number: 20110502-5400.

Comment Date: 5 p.m. Eastern Time on Monday, May 16, 2011.

Docket Numbers: RP11-2089-000.

Applicants: Big Sandy Pipeline, LLC.

Description: Big Sandy Pipeline, LLC submits tariff filing per 154.202: Big Sandy Pipeline, LLC Baseline Filing to be effective 6/1/2011.

Filed Date: 05/02/2011.

Accession Number: 20110502-5405.

Comment Date: 5 p.m. Eastern Time on Monday, May 16, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: May 3, 2011.
Nathaniel J. Davis, Sr.,
Deputy Secretary.

[FR Doc. 2011-12886 Filed 5-24-11; 8:45 am]

BILLING CODE 6717-01-P